DEPARTMENT OF TRANSPORTATION

Federal Aviation Administration

Agency Information Collection Activities: Requests for Comments; Clearance of Renewed Approval of Information Collection: Application for Employment With the Federal Aviation Administration

AGENCY: Federal Aviation Administration (FAA), DOT.

ACTION: Notice and request for comments.

SUMMARY: In accordance with the Paperwork Reduction Act of 1995, FAA invites public comments about our intention to request the Office of Management and Budget (OMB) approval to revise a currently approved information collection. The information collected is used to evaluate the qualifications of applicants for a variety of positions within the FAA. The FAA seeks to remove a duplicative questionnaire.

DATES: Written comments should be submitted March 14, 2016.

ADDRESSES: Send comments to the FAA at the following address: Ronda Thompson, Room 441, Federal Aviation Administration, ASP-110, 950 L'Enfant Plaza SW., Washington, DC 20024.

PUBLIC COMMENTS INVITED: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0597.

Title: Application for Employment with the Federal Aviation Administration.

Form Numbers: There are no FAA forms associated with this collection. Information is collected via the Office of Personnel Management (OPM) online USAJOBS system and the FAA's Automated Vacancy Information Access Tool for Online Referral (AVIATOR) staffing tool.

Type of Review: Revision of an information collection.

Background: Under the provisions of Public Law 104-50, the Federal Aviation Administration (FAA) was given the authority and the responsibility for developing and implementing its own personnel system. The agency requests certain information needed to determine basic eligibility for employment and potential eligibility for veteran's preference and Veteran's Readjustment Act appointments. In addition, occupation specific questions assist us in determining candidates' qualifications so that we may hire only the best-qualified candidates for our many aviation safety-related occupations. The FAA seeks to remove the “How did you hear about this job” questionnaire since the questionnaire is being added to OPMs online USAJOBS system.

Respondents: Approximately 118,000 annually.

Frequency: Information is collected on occasion.

Estimated Average Burden per Response: 1.5 hours.

Estimated Total Annual Burden: 177,000 hours.

Issued in Washington, DC on January 5, 2016.
Ronda Thompson,
FAA Information Collection Clearance Officer, Performance, Policy, and Records Management Branch, ASP-110.

[FR Doc. 2016-00317 Filed 1-8-16; 8:45 am]

BILLING CODE 4910-13-P